DEPARTMENT OF ENERGY

Federal Energy Regulatory Commission

[Docket No. RP18-271-000]

Peregrine Oil & Gas II, LLC v. Texas Eastern Transmission, LP; Notice of Amended and Restated Complaint

Take notice that on December 19, 2017, pursuant to sections 5 and 16 of the Natural Gas Act, 15 U.S.C. 717d and 717o, and Rule 206 of the Federal Energy Regulatory Commission's (Commission) Rules of Practice and Procedure, 18 CFR 385.206, Peregrine Oil & Gas II, LLC (Complainant), filed an amended and restated complaint to update its original complaint filed on June 1, 2017 against Texas Eastern Transmission, LP (Respondent or Texas Eastern), alleging that Respondent has violated (1) its service obligations under its tariff, section 4 of the NGA, and Commission regulations by failing to exercise due diligence to remedy two recent outages on its FERC-certificated Line 41-A System and to remove the cause of such outages in an adequate manner and with all reasonable dispatch; (2) section 4 of the NGA and Commission regulations by requiring that, as a condition to repairing its Line 41-A System and restoring service thereon, producers pay extra, un-tariffed charges to Texas Eastern, ostensibly to reimburse it for the claimed costs of, among other things, the maintenance work; and (3) section 7 of the NGA by abandoning its Line 41-A System facilities without Commission authorization, all as more fully explained in the amended and restated complaint.

Complainant certifies that a copy of the complaint has been served on the Respondent and the Presiding Administrative Law Judge.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the eFiling link at http://www.ferc.gov. Persons unable to file electronically should submit an original and 5 copies of the protest or intervention to the Federal Energy Regulatory Commission, 888 First Street NE, Washington, DC 20426.

This filing is accessible on-line at http://www.ferc.gov, using the eLibrary link and is available for electronic review in the Commission's Public Reference Room in Washington, DC. There is an eSubscription link on the website that enables subscribers to receive email notification when a document is added to a subscribed docket(s). For assistance with any FERC Online service, please email FERCOnlineSupport@ferc.gov, or call (866) 208-3676 (toll free). For TTY, call (202) 502-8659.

Comment Date: 5:00 p.m. Eastern Time on January 8, 2018.

Dated: December 22, 2017.
Nathaniel J. Davis, Sr.,
Deputy Secretary.

[FR Doc. 2017-28326 Filed 1-2-18; 8:45 am]

BILLING CODE 6717-01-P